DEPARTMENT OF TRANSPORTATION

Federal Aviation Administration

Notice of Opportunity for Public Comment on Surplus Property Release at Columbus County Municipal Airport, Whiteville, NC

AGENCY: Federal Aviation Administration (FAA), DOT.

ACTION: Notice.

SUMMARY: Under the provisions of Title 49, U.S.C. Section 47153(c), notice is being given that the FAA is considering a request from the Columbus County Airport Authority to waive the requirement that approximately 0.88 acres of airport property, located at the Columbus County Municipal Airport, be used for aeronautical purposes.

DATES: Comments must be received on or before July 25, 2012.

ADDRESSES: Comments on this notice may be mailed or delivered in triplicate to the FAA at the following address: Atlanta Airports District Office, Attn: Rusty Nealis, Program Manager, 1701 Columbia Ave., Suite 2-260, Atlanta, GA 30337-2747.

In addition, one copy of any comments submitted to the RAA must be mailed or delivered to Phil Edwards, Airport Director, Columbus County Municipal Airport at the following address: Columbus County Municipal Airport, 467 Airport Road, Whiteville, NC 28472.

FOR FURTHER INFORMATION CONTACT: Rusty Nealis, Program Manager, Atlanta Airports District Office, 1701 Columbia Ave., Campus Building, Suite 2-260, Atlanta, GA 30337-2747, (404) 305-7142. The application may be reviewed in person at this same location.

SUPPLEMENTARY INFORMATION: The FAA is reviewing a request by the Columbus County Airport Authority to release approximately 0.88 acres of airport property at the Columbus County Municipal Airport. The property consists of one parcel located on the northwest side of the airfield. This land is being swapped for an equivalent sized parcel closer to the airfield which is needed by the airport to construct a parallel taxiway.

Any person may inspect the request in person at the FAA office listed above under FOR FURTHER INFORMATION CONTACT.

In addition, any person may, upon request, inspect the request, notice and other documents germane to the request in person at the Columbus County Municipal Airport.

Issued in Atlanta, Georgia, on June 12, 2012.
Scott L. Seritt,
Manager, Atlanta Airports District Office, Southern Region.

[FR Doc. 2012-15280 Filed 6-22-12; 8:45 am]

BILLING CODE 4910-13-M